DEPARTMENT OF HEALTH AND HUMAN SERVICES

Centers for Disease Control and Prevention

[Program Announcement #02151]

Disease, Disability, and Injury Prevention and Control Special Emphasis Panel: A Research Study To Assess Multifaceted Fall Prevention Intervention Strategies Among Community-Dwelling Older Adults

In accordance with section 10(a)(2) of the Federal Advisory Committee Act (Pub. L. 92-463), the Centers for Disease Control and Prevention (CDC) announces the following meeting:

Name: Disease, Disability, and Injury Prevention and Control Special Emphasis Panel (SEP): A Research Study to Assess Multifaceted Fall Prevention Intervention Strategies Among Community-Dwelling Older Adults, Program Announcement #02151.

Times and Dates: 6: p.m.-6:30 p.m., July 28, 2002 (Open); 6:30 p.m.-8 p.m., July 28, 2002 (Closed); 9 a.m.-5 p.m., July 29, 2002 (Closed).

Place: The Westin Hotel (Atlanta Airport) 4736 Best Road, Atlanta, GA 30337. Phone: (404) 762-7676.

Status: Portions of the meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to PA# 02151.

Contact Person for More Information: Dr. Ann Dellinger, Epidemiologist, National Center for Injury Prevention and Control, CDC, 2495 Flowers Road, Atlanta, Georgia 30341; (770) 488-4811.

The Director, Management Analysis and Services Office has been delegated the authority to sign Federal Register notices pertaining to announcements of meetings and other committee management activities, for both the Centers for Disease Control and Prevention and the Agency for Toxic Substances and Disease Registry.

Dated: July 2, 2002.
Joe Salter,
Acting Director, Management Analysis and Services Office, Centers for Disease Control and Prevention (CDC).

[FR Doc. 02-17161 Filed 7-8-02; 8:45 am]

BILLING CODE 4163-18-P